DEPARTMENT OF THE INTERIOR

Bureau of Indian Affairs

[201A2100DD/AAKC001030/A0A51010.999900]

Land Acquisitions; Tejon Indian Tribe

AGENCY: Bureau of Indian Affairs, Interior.

ACTION: Notice.

SUMMARY: The Assistant Secretary—Indian Affairs has made a final determination to acquire 10.36 acres, more or less, into trust for the Indians of the Tejon Indian Tribe.

DATES: The Assistant Secretary—Indian Affairs made the final determination on September 1, 2020.

FOR FURTHER INFORMATION CONTACT: Ms. Sharlene M. Round Face, Bureau of Indian Affairs, Division of Real Estate Services, 1849 C Street NW, MS 4620-MIB, Washington, DC 20240, telephone (505) 563-3132, email: sharlene.roundface@bia.gov.

SUPPLEMENTARY INFORMATION: This notice is published in the exercise of authority delegated by the Secretary of the Interior to the Assistant Secretary—Indian Affairs by part 209 of the Departmental Manual, and is published to comply with the requirement of 25 CFR 151.12(c)(2)(ii) that notice of the decision to acquire land in trust be promptly published in the Federal Register.

On the date listed in the DATES section of this notice, the Assistant Secretary—Indian Affairs issued a decision to accept land in trust for the Tejon Indian Tribe under the authority of the 25 U.S.C. 5108, Indian Reorganization Act of June 18, 1934 (48 Stat. 985).

Legal Description

THE NORTHERLY 589.34 FEET OF SECTION 28, TOWNSHIP 12 NORTH, RANGE 19 WEST, SAN BERNARDINO MERIDIAN, ACCORDING TO THE OFFICIAL PLAT OF SURVEY OF SAID LAND ON FILE IN THE BUREAU OF LAND MANAGEMENT SITUATED WEST OF THE WESTERLY LINE OF WHEELER RIDGE ROAD AND SOUTH OF THE SOUTHERLY LINE OF DAVID ROAD, IN THE COUNTY OF KERN, STATE OF CALIFORNIA.

EXCEPTING THEREFROM ALL OIL, GAS AND OTHER HYDROCARBON SUBSTANCES IN, ON AND UNDER SAID LAND, AS RESERVED IN PREVIOUS DEEDS OF RECORD.

Tara Sweeney,
Assistant Secretary—Indian Affairs.

[FR Doc. 2020-19705 Filed 9-4-20; 8:45 am]

BILLING CODE 4337-15-P